NATIONAL SCIENCE FOUNDATION

National Science Foundation, National Science Board and Its Subdivisions Sunshine Act Meetings Notice

Date and Time: November 29-30, 2006.

Wednesday November 29, 2006, 7:30 a.m.-5:15 p.m.

7:30-7:45 Open

7:45-8 Closed

8-8:45 Open

8:45-9:30 Open

9:30-10 Open

10-11:30 Open

11:30-12 Closed

12:45-2:15 Open

2:15-3:45 Open

3:45-5:15 Closed

Thursday November 30, 2006, 8 a.m.-3 p.m.

8-8:45 Open

8:45-9:30 Open

9:30-10 Closed

10-12 Open

1:15-1:30 Closed

1:30-1:45 Closed

1:45-3 Open

Place: National Science Foundation, 4201 Wilson Blvd, Room 1235, Arlington, VA 22230.

Public Meeting Attendance: All visitors must report to the NSF's visitor's desk at the 9th and N. Stuart Streets entrance to receive a visitor's badge.

Contact Information: Please refer to the National Science Board Web site (http://www.nsf.gov/nsb) for any schedule updates. NSB Office: Dr. Robert Webber, (703) 292-7000.

Status: Part of this meeting will be closed to the public; Part of this meeting will be open to the public.

Matters To Be Considered

Wednesday, November 29, 2006

Open

Executive Committee (7:30 a.m.-7:45 a.m.)

• Approval of Minutes for September 2006 Meeting

• Updates or New Business from Committee Members

CPP Task Force on Transformative Research (8 a.m.-8:45 a.m.)

• Approval of Minutes for September 2006 Meeting

• Task Force Chairman's Remarks

• Review of Draft Report, “Enhancing Support of Transformative Research at the National Science Foundation” and Recommendations

CPP Subcommittee on International Science (8:45 a.m.-9:30 a.m.)

• Approval of Minutes

• Task Force Chairman's Remarks

• Discussion of the September 25 Roundtable Discussion Summary Notes

• Information Item: Partnerships for International Research and Education (PIRE)

• Discussion of Future Task Force Activities

CPP Task Force on Hurricane Science and Engineering (9:30 a.m.-10 a.m.)

• Approval of Minutes for September 2006 Meeting

• Task Force Co-Chairmen's Remarks

• Discussion of the Draft NSB Report, Hurricane Warning: Critical Need for a National Hurricane Research Initiative

• Future Activities of the Task Force

Committee on Audit and Oversight (10 a.m.-11:30 a.m.)

• Approval of Minutes of September, 2006 Meeting

• Committee Chairman's Remarks

• OIG Semiannual Report

• Management Response to OIG Semiannual Report

• 2006 Financial Statement Audit

• Chief Information Officer's Update

• Chief Financial Officer's Update, including Performance and Accountability Report/2006 Financial Statement Audit (available at http://www.nsf.gov/publications/pub_summ.jsp?ods_key=nsf0701)

• Initiative on Interim Progress Reports (Research Business Models Subcommittee of the Committee on Science)

EHR Subcommittee on Science and Engineering Indicators (12:45 p.m.-2:15 p.m.)

• Approval of September Minutes

• Subcommittee Chairman's Remarks

• Brief discussion of Revised Chapter Outlines

• Review of Science and Engineering Indicators Draft Chapters

○ NSB Review—Matrix for Chapter Reviewers and Lead Reviewers

○ External Expert Review

• Discussion of Possible Topics for Board Companion Piece

• Parallel Discussion of Science and Engineering Indicators 2010

○ Data Gaps

○ Meeting with State Representatives

○ Meeting with Industry Representatives

• Web Presentation and Electronic Dissemination of Indicators

• Chairman's Summary

Committee on Programs and Plans (2:15 p.m.-3:45 p.m.)

• Approval of Minutes

• Committee Chairman's Remarks

• Status Reports:

○ Task Force on International Science

○ Subcommittee on Polar Issues

○ Task Force on Transformative Research

○ Task Force on Hurricane Science and Engineering

• FY 2007 Schedule of Actions and Information Items for NSB Review

• NSB Policy on Recompetition of NSF Awards

• NSB Information Item: Division of Astronomical Sciences Senior Review

• NSB Information Item: National Optical Astronomy Observatory (NOAO) and National Solar Observatory (NSO)-Management Review of the 5-year Cooperative Agreement with the Association of Universities for Research in Astronomy, Inc. (AURA)

Closed

Executive Committee (7:45 a.m.-8 a.m.)

• Director's Items

○ Specific Personnel Matters

○ Future Budgets

Committee on Audit and Oversight (11:30 a.m.-12 noon)

• Pending Investigations: OIG Staff

Committee on Programs and Plans (3:45 p.m.-5:15 p.m.)

• NSB Action Item: Request for Proposals and Award of a Contract for the Conduct of the Survey of Doctorate Recipients (SDR)

• NSB Action Item: Continuity and Change in American Economic and Social Life: The Panel Study of Income Dynamics (PSID) for Fiscal Years 2007-2011

Thursday, November 30, 2006

Open

CPP Subcommittee on Polar Issues (8 a.m.-8:45 a.m.)

• Approval of September Minutes

• Subcommittee Chairman's Remarks

• OPP Director's Remarks

• Polar Icebreakers in a Changing World: An Assessment of U.S. Needs, A Report of The National Academies, September 2006

Committee on Strategy and Budget (8:45 a.m.-9:30 a.m.)

• Approval of September 28, 2006 CSB Minutes

• Committee Chairman's Remarks

• Findings of NSF Working Group on the Impact of Proposal and Award Management Mechanisms (IPAMM) Study of Award Size, Duration and Proposal Success Rates

• NSF FY 2007 Budget Request

Committee on Education and Human Resources (10 a.m.-12 p.m.)

• Approval of September 2006 Minutes

• Chairman's Remarks

• Evaluation and the Academic Competitiveness Council

• Update on Education Commission

• NSF-EHR Directorate Program Evaluations

• Discussion of Board Response to Congressman Rush Holt Letter

• Subcommittee on Science and Engineering Indicators

• Summary of Nov. 7 Engineering Education Workshop

• NSB Executive Officer's Report

Closed

Committee on Strategy and Budget (9:30 a.m.-10 a.m.)

• NSF FY 2008 Budget Request

○ Status of NSF FY 2008 Budget Request

○ Potential Impacts of Grants Management Line of Business on Future Budgets

Plenary Sessions of the Board (1:15 p.m.-3 p.m.)

Plenary Executive Closed (1:15 p.m.-1:30 p.m.)

• Approval of September 2006 Minutes

Plenary Closed (1:30 p.m.-1:45 p.m.)

• Approval of September 2006 Minutes

• Awards and Agreements

○ NSB Action Item: Request for Proposals and Award of a Contract for the Conduct of the Survey of Doctorate Recipients (SDR)

○ NSB Action Item: Continuity and Change in American Economic and Social Life: The Panel Study of Income Dynamics (PSID) for Fiscal Years 2007-2011

• Closed Committee Reports

Plenary Open (1:45 p.m.-3 p.m.)

• Approval of September 2006 Minutes

• Closed Session Items for February 2007 Meeting

• Chairman's Report

• Director's Report

• Open Committee Reports

• Presentation: Overview of NSF Outreach Activities

Michael P. Crosby,
Executive Officer and NSB Office Director.

[FR Doc. E6-19970 Filed 11-24-06; 8:45 am]

BILLING CODE 7555-01-P